DEPARTMENT OF COMMERCE

National Oceanic and Atmospheric Administration

50 CFR Part 648

[Docket No. 160120042-6337-02]

RIN 0648-BF69

Magnuson-Stevens Fishery Conservation and Management Act Provisions; Fisheries of the Northeastern United States; Northeast Groundfish Fishery; Fishing Year 2016; Recreational Management Measures

AGENCY: National Marine Fisheries Service (NMFS), National Oceanic and Atmospheric Administration (NOAA), Commerce.

ACTION: Final rule.

SUMMARY: This action sets the recreational management measures for Gulf of Maine cod and haddock for the 2016 fishing year. This action is intended to increase recreational fishing opportunities for cod and haddock consistent with the 2016 catch limits for these stocks, while ensuring the quotas are not exceeded. This action is expected to facilitate the recreational fishery achieving the recreational quotas for 2016.

DATES: Effective May 1, 2016.

ADDRESSES: Copies of a supplemental environmental assessment (EA) to Framework Adjustment 55 to the Northeast Multispecies Fishery Management Plan prepared by the Greater Atlantic Regional Fisheries Office and Northeast Fisheries Science Center; and the Framework 55 EA prepared by the New England Fishery Management Council for this rulemaking are available from: John K. Bullard, Regional Administrator, National Marine Fisheries Service, 55 Great Republic Drive, Gloucester, MA 01930. The Framework 55 EA and supplement are also accessible via the Internet at: http://www.greateratlantic.fisheries.noaa.gov/sustainable/species/multispecies/. These documents are also accessible via the Federal eRulemaking Portal: http://www.regulations.gov.

FOR FURTHER INFORMATION CONTACT: Mark Grant, Sector Policy Analyst, phone: 978-281-9145; email: Mark.Grant@noaa.gov.

SUPPLEMENTARY INFORMATION:

Background

Statutory Authority

Under the Northeast Multispecies Fishery Management Plan (FMP), specific sub-annual catch limits (sub-ACL) for the recreational fishery are established for each fishing year for Gulf of Maine (GOM) cod and haddock. The regulations at 50 CFR 648.89(f)(3) authorize the Regional Administrator, in consultation with the New England Fishery Management Council (Council), to modify the recreational management measures for the upcoming fishing year to ensure the recreational fishery achieves, but does not exceed, the recreational fishery sub-ACLs. The proposed rule for this action published in the Federal Register (81 FR 11168; March 3, 2016) provides details on the consultation with the Council and how the Council developed its recommendations; that information is not repeated here.

Fishing Year 2016 Recreational Management Measures

After consulting with the Council, we are increasing recreational fishing opportunities for GOM cod and haddock. Starting May 1, 2016, anglers may retain 1 cod per day during August and September, and may keep up to 15 haddock per day for most of the fishing year. Table 1 provides the new measures effective with the start of fishing year 2016 (May 1, 2016) compared to the current measures. These measures are based on the fishing year 2016 recreational quotas, and removal of the GOM cod retention prohibition approved and implemented as part of Framework Adjustment 55 to the Northeast Multispecies FMP.

For 2016, the GOM haddock recreational sub-ACL is increasing 149 percent compared to 2015, based on continued growth of the stock biomass. Although GOM cod remains overfished and subject to overfishing, biomass has increased slightly, and the GOM cod recreational sub-ACL is increasing 30 percent compared to 2015. A more detailed summary of these catch limits, and the removal of the cod prohibition, is provided in the Framework 55 final rule and not repeated here.

Changes From Proposed Rule

On March 3, 2016, we published a proposed rule in the Federal Register (81 FR 11168) to increase recreational fishing opportunities for GOM cod and haddock starting May 1, 2016. We intended to propose measures as recommended by the Council. However, that proposed rule contained inadvertent errors in the dates that GOM haddock possession would be prohibited. Instead of a March 1-April 14 closure as recommended by the Council, we inadvertently proposed a closed season of April 15-April 30. We published a correction in the Federal Register (81 FR 14817; March 18, 2016) and extended the comment period. This final rule implements the corrected measures, as recommended by the Council.

Analysis

Recreational catch and effort data are estimated by the Marine Recreational Information Program (MRIP). A peer-reviewed bioeconomic model, developed by the Northeast Fishery Science Center, was used to estimate 2016 recreational GOM cod and haddock mortality under various combinations of minimum sizes, possession limits, and closed seasons. Catch data and model projections suggest that the recreational fleet is not expected to exceed its fishing year 2015 catch limits for GOM cod or haddock. Further, based on the increased recreational sub-ACLs for the 2016 fishing year, analyses indicate that recreational catch for both GOM cod and haddock could be increased without undermining conservation objectives. Additional details are provided in the Supplemental EA (see ADDRESSES) and the proposed rule published on March 3, 2016 (81 FR 11168), and are not repeated here.

The final measures implemented by this action for the 2016 fishing year, as recommended by the Council, are expected to result in an increase in the number of trips taken by anglers, and increased catch, in comparison to retaining the 2015 measures, while staying within the recreational sub-ACLs for 2016 (Table 2).

Comments and Responses

We received 102 comments on the proposed 2016 recreational measures. One comment received was not germane to the proposed measures. We received comments from the Council, the Massachusetts Striped Bass Association, the Stellwagen Bank Charter Boat Association, and 99 individuals.

Haddock Measures

Comment 1: Seventy-five commenters generally supported the proposed recreational haddock measures.

Response: We agree and have approved the haddock measures recommended by the Council. As further discussed in the proposed rule and the supplemental EA, the measures being implemented for the 2016 fishing year are expected to result in an increase in the number of trips taken by anglers, and increased catch, in comparison to retaining the 2015 measures, while staying within the recreational quotas for 2016. These expected increases will help the recreational fishery achieve its quota for GOM haddock and have positive economic impacts.

Haddock Bag Limit

Comment 2: Three individuals commented that the haddock bag limit should be higher. One individual felt a higher bag limit was appropriate because haddock were abundant in the GOM, and two individuals asserted that a higher haddock bag limit was necessary for customers to justify the expense of a trip on a charter or party boat (for-hire vessels).

Response: We agree with the Council's recommendation that the haddock bag limit should be 15 fish due to uncertainty in the model, concerns about a dramatic change in the possession limit, and a history of catch exceeding the recreational quota when the possession limit was unlimited. The 15-fish bag limit for haddock is considered the best compromise to increase in the number of trips taken and fish caught while staying within the recreational sub-ACLs for 2016 (Table 2).

Comment 3: Seven individuals commented that the haddock bag limit should be lower. Their reasons included a preference for coupling a smaller bag limit with a larger minimum size to yield better fish, uncertainty in the stock assessment, and concern that catch would be higher than predicted because headboats would stay on one spot until every customer catches the bag limit.

Response: The GOM haddock stock is not overfished and overfishing is not occurring. The 2015 operational assessment found the population projections of the stock are reliable. There is some uncertainty in the model used to estimate 2016 recreational catch because it cannot anticipate how much effort may increase, as discussed in detail in the supplemental EA (see ADDRESSES). However, the model estimates that the increased bag limit and lengthened open season will substantially increase fishing effort and haddock catch compared to last year, while restraining catch within the sub-ACL (catch estimated at 76 percent of quota, see Table 2). As further explained in the response to comment 6, there is no new information available to show a population shift to larger haddock so the 17-inch (43.2-cm) minimum size has been retained because it would result in anglers achieving their bag limit more quickly, reducing overall mortality, and particularly discard mortality. In light of this information, the commenter's suggested trade-off would likely increase overall or discard mortality.

Comment 4: Two individuals commented that the 15-fish bag limit for haddock would lead to increased discards of cod.

Response: We disagree. Analysis indicates recreational cod bycatch on targeted haddock trips was significantly lower in 2015 compared to previous years. The larger bag limit for haddock is expected to encourage targeted haddock trips, and for this reason we expect anglers will continue to successfully avoid cod. Based on the final 2016 measures included in this rule, total GOM cod mortality (Table 2), including release mortality, is estimated to be only 73-84 percent of the recreational quota. GOM cod release mortality is estimated to be 86-89 mt, or approximately 55-57 percent of the recreational quota. The model predicts maintaining a 3-fish bag limit for haddock (status quo measures) would result in 62 mt of cod discard mortality. This analysis is available at: http://s3.amazonaws.com/nefmc.org/4e.151124_FY2016_simulations_RAP_and_Committee_options_NEFSC.pdf. Given the increase in the recreational cod quota for 2016, this modest increase in cod discard mortality is not a biological concern.

Comment 5: One commenter expressed concern that a 15-fish bag limit for haddock would encourage a black market for recreationally-caught fish because it exceeded the consumption needs of recreational anglers.

Response: Selling recreationally caught fish is illegal. Apprehended violators will be sanctioned and illegal activity will be deterred. There is no evidence that a black market for recreationally caught haddock has ever existed under varying bag limits in the past. The 15-fish bag limit for GOM haddock, while an increase from the 2015 bag limit, is lower than historical bag limits and is not expected to create a new incentive for non-compliance.

Haddock Minimum Size

Comment 6: Sixty commenters stated that the 17-inch (43.2-cm) minimum size for haddock would reduce discards of haddock.

Response: We agree. In 2015, the minimum size for recreationally caught haddock was reduced from 21 inches (53.3 cm) to 17 inches (43.2 cm). The minimum size was reduced because there were a large number of haddock in the 17-inch (43.2-cm) to 20-inch (50.8-cm) range, and a 17-inch (43.2-cm) minimum size would result in anglers achieving their bag limit more quickly, reducing overall mortality. There is no new information available to show a population shift to larger haddock so the 17-inch (43.2-cm) minimum size has been retained to reduce overall mortality, but particularly discard mortality, consistent with National Standard 9.

Comment 7: Three individuals commented that the haddock minimum size should be increased.

Response: As discussed in the response to comment 6, the minimum size for recreationally caught haddock was reduced to 17 inches (43.2 cm) in 2015 because there were a large number of haddock in the 17-inch (43.2-cm) to 20-inch (50.8-cm) range. There is no new information available to suggest a population shift to larger haddock; therefore, the 17-inch (43.2-cm) minimum size has been retained to reduce overall mortality, but particularly discard mortality.

Haddock Season

Comment 8: Three individuals commented that the haddock season should be open longer.

Response: We disagree. We have determined that the Council's recommended haddock season is more likely to achieve conservation objectives in light of weighing the benefits of having a spring open season against the risks of uncertainty in the model. In particular, we share the Council's concern about a lack of catch data from March 1 through April 14 to inform the analysis and estimate the impact of haddock fishing during that period.

Cod Measures

Comment 9: Eleven commenters generally supported the proposed recreational cod measures.

Response: We agree and have approved the cod measures recommended by the Council. As further discussed in the proposed rule and the supplemental EA, the measures being implemented for the 2016 fishing year are expected to result in an increase in the number of trips taken by anglers, increased catch, and positive economic impacts in comparison to retaining the 2015 measures, while staying within the recreational quotas for 2016.

Comment 10: The Massachusetts Striped Bass Association and one individual commented that the GOM cod stock should remain closed to recreational fishing until the stock can support a longer season.

Response: We disagree. We have determined that the Council's recommended 2-month open season is the best compromise for achieving National Standard 1's requirement to achieve optimum yield while preventing overfishing for the recreational cod fishery. The analysis described in the Supplemental EA and proposed rule show this short open season will provide benefits to the public in the form of increased recreational fishing opportunities and cod catch, with related economic benefits, without exceeding the recreational quota. Additionally, analysis suggests that this limited open season for cod will reduce cod discards by turning some of that mortality into landings.

Cod Bag Limit

Comment 11: The Stellwagen Bank Charter Boat Association and 70 individuals opposed the 1-fish bag limit and commented in support of a larger bag limit for GOM cod. One individual suggested that the cod bag limit be adjusted to turn release mortality into landings. Three individuals commented that the cod bag limit was too low to justify the expense of a trip.

Response: As described in the proposed rule and the EA prepared for Framework Adjustment 55, the GOM cod stock is overfished and subject to overfishing, but the biomass has increased slightly. Framework Adjustment 55 has increased the recreational sub-ACL to 157 mt. The analyses presented to the Recreational Advisory Panel (http://s3.amazonaws.com/nefmc.org/4c_151117_Recreational_Measures_Presentation_RAP_NEFSC.pdf) suggest that increasing the bag limit beyond one fish would likely cause the recreational fishery to exceed its quota. Rather than converting discarded cod to landings, an increased bag limit would lead to increased effort targeting cod and result in catch exceeding the recreational cod quota. Based on the analyses, we agree with the Council's recommendation to implement the one-fish bag limit for the months of August and September as the best way to balance recreational fishing opportunities and cod mortality.

We encourage the recreational community to fish not only for cod, but for the other plentiful species in our waters, including haddock, pollock, and redfish. Recipes for these fish are available on our Fishwatch Web site at: http://www.fishwatch.gov/eating-seafood/recipes.

Comment 12: In opposing the one-fish bag limit for GOM cod, the Stellwagen Bank Charter Boat Association and 59 individuals commented that in 2015 there had been many reports of cod bycatch in the GOM and excellent cod fishing in southern New England. An additional six individuals and the Stellwagen Bank Charter Boat Association also commented that cod are more abundant in the GOM. Additionally, one commenter asserted that the recreational discard mortality was incorrectly assumed to be 100 percent.

Response: Atlantic cod are managed as two distinct stocks: GOM and Georges Bank. Atlantic cod caught in southern New England are part of the Georges Bank stock, and are not part of the GOM stock. As described more fully in the Framework Adjustment 55 EA, an operational assessment of GOM cod was conducted in 2015. The review panel concluded that the updated assessment was acceptable as a scientific basis for management advice. Consistent with National Standard 2, this assessment was considered the best scientific information available upon which to base management measures. This operational assessment included the most recent information on recreational discard mortality for GOM cod (15 percent) to re-estimate recreational catch from 2004 through 2014. The assessment found that the stock is overfished, subject to overfishing, and spawning stock biomass was only 4-6 percent of the biomass target. Based on this information, and that GOM cod remains subject to a rebuilding program as part of the Northeast Multispecies FMP, the recreational measures implemented by this rule are necessary to prevent the recreational fishery from exceeding the quota.

Comment 13: One individual recommended a mid-year adjustment to increase or decrease the cod bag limit based on science or input from the for-hire fleet.

Response: Although a mid-year adjustment may be beneficial in some circumstances, this type of mid-season, real-time adjustment is not currently possible for the recreational groundfish fishery. As described in greater detail in the proposed rule and Supplemental EA, the Marine Recreational Information Program (MRIP) gathers fishing effort and catch data in two month “waves” (for example, wave 1 is January-February; wave 2 is March-April), and preliminary data for a given wave is generally not available until 6 weeks after the wave ends. Accurately assessing catch mid-year, modeling potential changes, and revising regulations in time to make any meaningful change prior to the end of the fishing year would not be possible.

Cod Minimum Size

Comment 14: Three individuals commented that the minimum size for cod should be lowered. One of the individuals suggested that a 19-inch (48.3-cm) minimum size and a 30-inch (76.3-cm) maximum size be implemented rather than only a minimum size.

Response: The recreational groundfish fishery has historically been managed with minimum sizes to protect juveniles and control overall mortality. As described in the proposed rule, we consulted with the Council, including the Recreational Advisory Panel and the Groundfish Oversight Committee. Analysis of potential measures for 2016 showed that cod catch and mortality increased with lower minimum sizes. Based on these analyses, the Council, the Recreational Advisory Panel, and the Groundfish Oversight Committee all recommended a 24-inch minimum size for cod. The commenter did not explain why a maximize size limit combined with a minimum size limit would better achieve the conservation objectives for cod. Therefore, we have determined that the Council's recommended minimum size by itself is expected to keep the recreational cod catch below the quota.

Cod Season

Comment 15: The Stellwagen Bank Charter Boat Association and 65 individuals commented in support of a longer open season for cod than the two months set by this final rule. A total of three individuals also commented that the open season for cod should be in the spring to reflect historical fishing patterns.

Response: We disagree with setting a longer open season and with moving the open season to spring. We agree with the Council's recommendation to open August and September for cod fishing because it protects spring-spawning cod, provides more conservation than a spring opening, and strikes a better balance between the summer season preferred by many private recreational anglers and tourists relying on for-hire vessels in the southern GOM, and the longer fall season favored by the for-hire vessels further north in the GOM looking to extend their season.

General Comments

Comment 16: One commenter felt that it was unfair for closed seasons to always occur in spring because it disadvantaged for-hire businesses.

Response: Over time, closed seasons for GOM cod and haddock have occurred during different seasons (including spring, summer, fall, and winter). As stated in the previous comment, we agree with the Council's recommendation to curtail the spring open season for GOM cod, in part, because spring is a spawning season for cod in the GOM and keeping the GOM closed to recreational vessels during spawning season provides more protection of the cod stock there. We will continue to work collaboratively with the recreational community to develop measures that best meet the needs of the fishery.

Comment 17: One individual commented that the for-hire fleet should have different regulations than private recreational anglers.

Response: We do not agree that there should be different measures between the for-hire fleet and private recreational anglers at this time because the Northeast Multispecies FMP does not specify separate goals or objectives for managing these two segments of the fishery. The Council has allocated sub-ACLs of GOM cod and haddock to the recreational fishery as a whole, but has not further divided those allocations between the private and for-hire sectors. The Recreational Advisory Panel has discussed the idea of separating the private angler and for-hire sectors of the recreational fishery, but the Council has chosen not to recommend such measures. Accordingly, we are implementing recreational measures applicable to all vessels recreational fishing for GOM cod and haddock.

Comment 18: We received many comments comparing the recreational and commercial fisheries. Commenters argued that the recreational fishery has little impact on stocks, that recreational fishermen should not be penalized for the poor status of the GOM cod stock, and that the commercial fishery (particularly draggers) was responsible for the current GOM cod stock status.

Response: Based on historical landings, approximately one third of the GOM cod and haddock annual catch limits are allocated to the recreational fishery. Preliminary estimates for fishing year 2015 catch show that the recreational fishery stayed within its allocations. However, in fishing years 2013 and 2014, the recreational fishery exceeded both its GOM cod and haddock quotas by considerable amounts. In 2014, catch of GOM haddock from recreational vessels exceeded that from commercial groundfish vessels. Recreational catch is a significant portion of the GOM cod and haddock harvest and it needs to be adequately managed in tandem with the commercial fishery to ensure that catch limits necessary to prevent overfishing these stocks and rebuild the cod stock are not exceeded. For these reasons, the recreational measures implemented by this rule are necessary to prevent the recreational fishery from exceeding its sub-ACL in fishing year 2016.

Comment 19: We received 63 comments requesting that we consider economic impacts when setting the recreational measures for 2016.

Response: The supplemental EA developed for this action considers economic impacts of these recreational measures. It estimates that the number of angler trips in 2016 will increase more than 60 percent from 2015. Based on an increased number of trips, and increased catch, we anticipate these measures will have a positive economic impact in comparison to measures currently in place for 2015. These measures are intended to mitigate the economic impacts of continued low allocations of GOM cod.

Comment 20: One individual recommended that we ban treble hooks to reduce discard mortality of cod and haddock.

Response: The Council did not recommend banning treble hooks in its consultation with us. There is no conclusive scientific evidence, at this time, that banning treble hooks would have positive conservation benefits in the GOM groundfish fishery, but there is ongoing research on this type of measure. Until we have more scientific evidence on this type of gear change, we have determined not to implement a ban on treble hooks.

Comment 21: One individual commented that recreational effort in the GOM is higher than data show and recommended additional data be collected from small recreational fishing vessels.

Response: Currently, all recreational data is collected through MRIP which estimates effort by private recreational vessels from information collected by the Coastal Household Telephone Survey. MRIP is transitioning to a mail survey design to improve the information collected. Beginning in January 2018, the transition will be complete and the mail survey will have replaced the telephone survey. Until then, both surveys are being run to calibrate the new survey and this is considered to collect the best scientific information available.

Classification

The Administrator, Greater Atlantic Region, NMFS, determined that these measures are necessary for the conservation and management of the Northeast multispecies fishery and that it is consistent with the Magnuson-Stevens Fishery Conservation and Management Act and other applicable laws.

There is good cause under 5 U.S.C. 553(d)(1) and (3) to waive the requirement for an effective date 30 days after date of publication because this rule relieves a restriction by increasing recreational fishing opportunities for Gulf of Maine (GOM) cod and haddock. This rule could not have been published sooner because data to justify these measures was only recently available and there was a regulatory requirement to first consult with the Council which could be done no sooner than its December 1-3, 2015, meeting. Subsequent to that meeting NMFS was required to publish a proposed rule and accept comment on the proposed measures prior to publishing this final rule. Currently, recreational fishing vessels are prohibited from retaining any GOM cod. Additionally, the recreational bag limit for GOM haddock is three fish and the fishery is only open May through August and November through February.

The measures implemented by this final rule relieve the current restriction on the recreational fishery by increasing the GOM cod bag limit from zero to one fish and the haddock bag limit from 3 fish to 15 fish beginning on May 1, resulting in in positive economic benefits to the recreational fishery. Because the recreational fishery has been closed since February 29, 2016, it is important to immediately implement this increased bag limit to ensure that recreational anglers, and the small businesses that make up the for-hire fleet, can plan for and make the most of the short spring and summer season when weather is best for small boats in the GOM.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

List of Subjects in 50 CFR Part 648

Fisheries, Fishing, Recordkeeping and reporting requirements.

Dated: April 20, 2016.
Samuel D. Rauch III,
Deputy Assistant Administrator for Regulatory Programs, National Marine Fisheries Service.

For the reasons stated in the preamble, NMFS amends 50 CFR part 648 as follows:

PART 648—FISHERIES OF THE NORTHEASTERN UNITED STATES

1. The authority citation for part 648 continues to read as follows:

Authority: 16 U.S.C. 1801 et seq.

2. In § 648.89, revise paragraphs (b)(1), (c)(1)(ii), (c)(2), and (c)(8) to read as follows:

§ 648.89 Recreational and charter/party vessel restrictions.

* * * * *

(b) Recreational minimum fish sizes—(1) Minimum fish sizes. Unless further restricted under this section, persons aboard charter or party boats permitted under this part and not fishing under the NE multispecies DAS program or under the restrictions and conditions of an approved sector operations plan, and private recreational fishing vessels in or possessing fish from the EEZ, may not possess fish smaller than the minimum fish sizes, measured in total length, as follows:

Species | Minimum size: Inches | Minimum size: cm
Cod:
Inside GOM Regulated Mesh Area ¹ | 24 | 61.0
Outside GOM Regulated Mesh Area ¹ | 22 | 55.9
Haddock:
Inside GOM Regulated Mesh Area ¹ | 17 | 43.2
Outside GOM Regulated Mesh Area ¹ | 18 | 45.7
Pollock | 19 | 48.3
Witch Flounder (gray sole) | 14 | 35.6
Yellowtail Flounder | 13 | 33.0
American Plaice (dab) | 14 | 35.6
Atlantic Halibut | 41 | 104.1
Winter Flounder (blackback) | 12 | 30.5
Redfish | 9 | 22.9
¹ GOM Regulated Mesh Area specified in § 648.80(a).

* * * * *

(c) * * *

(1) * * *

(ii) Each person on a private recreational fishing vessel, fishing from August 1 through September 30, may possess no more than one cod per day in, or harvested from, the EEZ when fishing in the GOM Regulated Mesh Area specified in § 648.80(a)(1); with the exception that each person on a private recreational vessel in possession of cod caught outside the GOM Regulated Mesh Area specified in § 648.80(a)(1) may transit this area with more than one such cod per person up to the possession limit specified at paragraph (c)(1)(i) of this section, provided all bait and hooks are removed from fishing rods and any cod on board has been gutted and stored.

* * * * *

(2) Charter or party boats. (i) Each person on a charter or party boat permitted under this part and not fishing under the NE multispecies DAS program or on a sector trip may possess unlimited cod when fishing outside of the GOM Regulated Mesh Area specified in § 648.80(a)(1).

(ii) Each person on a charter or party boat permitted under this part, fishing from August 1 through September 30, and not fishing under the NE multispecies DAS program or on a sector trip, may possess no more than one cod per day in the GOM Regulated Mesh Area specified in § 648.80(a)(1); with the exception that each person on a charter or party boat in possession of cod caught outside the GOM Regulated Mesh Area specified in § 648.80(a)(1) may transit this area with more than one such cod up to any possession limit under paragraph (c)(2)(i) of this section, provided all bait and hooks are removed from fishing rods and any cod on board has been gutted and stored.

(iii) For purposes of counting fish, fillets will be converted to whole fish at the place of landing by dividing the number of fillets by two. If fish are filleted into a single (butterfly) fillet, such fillet shall be deemed to be from one whole fish.

(iv) Cod harvested by a charter or party boat with more than one person aboard may be pooled in one or more containers. Compliance with the possession limits will be determined by dividing the number of fish on board by the number of persons on board. If there is a violation of the possession limits on board a vessel carrying more than one person, the violation shall be deemed to have been committed by the owner or operator of the vessel.

(v) Cod must be stored so as to be readily available for inspection.

* * * * *

(8) Haddock—(i) Outside the Gulf of Maine—(A) Private recreational vessels. Each person on a private recreational vessel may possess unlimited haddock in, or harvested from, the EEZ when fishing outside of the GOM Regulated Mesh Area specified in § 648.80(a)(1).

(B) Charter or party boats. Each person on a charter or party fishing boat permitted under this part, and not fishing under the NE multispecies DAS program or on a sector trip, may possess unlimited haddock in, or harvested from, the EEZ when fishing outside of the GOM Regulated Mesh Area specified in § 648.80(a)(1).

(ii) Gulf of Maine—(A) Private recreational vessels. Each person on a private recreational vessel in possession of haddock caught outside the GOM Regulated Mesh Area specified in § 648.80(a)(1) may transit this area with more than the GOM haddock possession limit specified at paragraph (c)(8)(ii) of this section up to the possession limit specified at paragraph (c)(8)(i) of this section, provided all bait and hooks are removed from fishing rods and any haddock on board has been gutted and stored.

(1) May through February. Each person on a private recreational fishing vessel, fishing from May 1 through February 28 (February 29 in leap years), may possess no more than 15 haddock per day in, or harvested from, the EEZ when fishing in the GOM Regulated Mesh Area specified in § 648.80(a)(1).

(2) March 1 through April 14. When fishing in the GOM Regulated Mesh Area specified in § 648.80(a)(1), persons aboard private recreational fishing vessels may not fish for or possess any haddock from March 1 through April 14.

(3) April 15 through April 30. Each person on a private recreational fishing vessel, fishing from April 15 through April 30, may possess no more than 15 haddock per day in, or harvested from, the EEZ when fishing in the GOM Regulated Mesh Area specified in § 648.80(a)(1).

(B) Charter or party boats. Each person on a charter or party fishing boat permitted under this part, and not fishing under the NE multispecies DAS program or on a sector trip, in possession of haddock caught outside the GOM Regulated Mesh Area specified in § 648.80(a)(1) may transit this area with more than the GOM haddock possession limit specified at paragraph (c)(8)(ii) of this section up to the possession limit specified at paragraph (c)(8)(i) of this section, provided all bait and hooks are removed from fishing rods and any haddock on board has been gutted and stored.

(1) May through February. Each person on a charter or party fishing boat permitted under this part, and not fishing under the NE multispecies DAS program or on a sector trip, fishing from May 1 through February 28 (or 29 in leap years), may possess no more than 15 haddock per day in, or harvested from, the EEZ when fishing in the GOM Regulated Mesh Area specified in § 648.80(a)(1).

(2) March 1 through April 14. When fishing in the GOM Regulated Mesh Area specified in § 648.80(a)(1), persons aboard a charter or party fishing boat permitted under this part, and not fishing under the NE multispecies DAS program or on a sector trip, may not fish for or possess any haddock from March 1 through April 14.

(3) April 15 through April 30. Each person on a charter or party fishing boat permitted under this part, and not fishing under the NE multispecies DAS program or on a sector trip, fishing from April 15 through April 30, may possess no more than 15 haddock per day in, or harvested from, the EEZ when fishing in the GOM Regulated Mesh Area specified in § 648.80(a)(1).

(iii) For purposes of counting fish, fillets will be converted to whole fish at the place of landing by dividing the number of fillets by two. If fish are filleted into a single (butterfly) fillet, such fillet shall be deemed to be from one whole fish.

(iv) Haddock harvested in or from the EEZ by private recreational fishing boats or charter or party boats with more than one person aboard may be pooled in one or more containers. Compliance with the possession limit will be determined by dividing the number of fish on board by the number of persons on board. If there is a violation of the possession limit on board a vessel carrying more than one person, the violation shall be deemed to have been committed by the owner or operator of the vessel.

(v) Haddock must be stored so as to be readily available for inspection.

* * * * *

[FR Doc. 2016-10053 Filed 4-29-16; 8:45 am]

BILLING CODE 3510-22-P